NATIONAL CREDIT UNION ADMINISTRATION

Sunshine Act; Notice of Agency Meeting

Time and Date: 10 a.m., Thursday, March 20, 2008.

Place: Board Room, 7th Floor, Room 7047 1775 Duke Street Alexandria, VA 22314-3428.

Status: Open.

Matters to be Considered: 1. Proposed Rule: Interpretive Ruling and Policy Statement (IRPS) 08-1, Guidance Regarding Prohibitions Imposed by Section 205(d) of the Federal Credit Union Act.

Recess: 10:30 a.m.

Time and Date: 10:45 a.m., Thursday, March 20, 2008.

Place: Board Room, 7th Floor, Room 7047 1775 Duke Street Alexandria, VA 22314-3428.

Status: Closed.

Matters to be Considered: 1. Administrative Action under Section 208 of the Federal Credit Union Act. Closed pursuant to Exemptions (8), (9)(A)(ii), and (B).

FOR FURTHER INFORMATION CONTACT: Mary Rupp, Secretary of the Board, Telephone: 703-518-6304.

Mary Rupp,
Secretary of the Board.

[FR Doc. E8-5448 Filed 3-18-08; 8:45 am]

BILLING CODE 7535-01-M